ENVIRONMENTAL PROTECTION AGENCY

40 CFR Part 300

[FRL-7869-3]

National Oil and Hazardous Substance Pollution Contingency Plan; National Priorities List

AGENCY: Environmental Protection Agency.

ACTION: Notice of intent to delete the Firestone Tire and Rubber Company Superfund site from the National Priorities List.

SUMMARY: The Environmental Protection Agency (EPA) Region IX announces the intent to delete the Firestone Tire and Rubber Company Superfund Site (Site) from the National Priorities List (NPL) and requests public comment on this proposed action. The NPL constitutes Appendix B of 40 CFR part 300 which is the National Oil and Hazardous Substances Pollution Contingency Plan (NCP), which EPA promulgated pursuant to section 105 of the Comprehensive Environmental Response, Compensation and Liability Act (CERCLA) of 1980, as amended. EPA and the State of California, through the California Department of Toxic Substances Control (DTSC), have determined that the remedial action for the Site has been successfully executed.

DATES: Comments concerning the proposed deletion of this Site from the NPL may be submitted on or before March 16, 2005.

ADDRESSES: Comments may be mailed to: Vicki Rosen, Community Involvement Coordinator, U.S. EPA Region IX (SFD-3), 75 Hawthorne Street, San Francisco, CA 94105-3901, (415) 972-3244 or 1-800-231-3075.

Information Repositories: Repositories have been established to provide detailed information concerning this decision at the following address: U.S. EPA Region IX Superfund Records Center, 95 Hawthorne Street, San Francisco, CA 94105-3901, (415) 536-2000, Monday through Friday 8 a.m. to 5 p.m.; John Steinbeck Library, 350 Lincoln Avenue, Salinas, CA 93901, (831) 758-7311.

FOR FURTHER INFORMATION CONTACT: Patricia Bowlin, Remedial Project Manager, U.S. EPA Region IX (SFD-7-3), 75 Hawthorne Street, San Francisco, CA 94105-3901, (415) 972-3177 or 1-800-231-3075.

SUPPLEMENTARY INFORMATION:

Table of Contents

I. Introduction

II. NPL Deletion Criteria

III. Deletion Procedures

IV. Basis of Intended Site Deletion

I. Introduction

The U.S. Environmental Protection Agency (EPA) Region IX announces its intent to delete the Firestone Tire and Rubber Company Superfund Site (Site) in Salinas, Monterey County, California from the National Priorities List (NPL) and requests public comment on this proposed action. The NPL constitutes Appendix B of 40 CFR part 300 which is the National Oil and Hazardous Substances Pollution Contingency Plan (NCP), which EPA promulgated pursuant to section 105 of the Comprehensive Environmental Response, Compensation and Liability Act (CERCLA) of 1980, as amended. EPA identifies sites which present a significant risk to public health, welfare, or the environment and maintains the NPL as the list of these sites. EPA and the State of California, through the California Department of Toxic Substances Control (DTSC), have determined that the remedial action for the Site has been successfully executed.

EPA will accept comments on the proposal to delete this Site for thirty (30) days after publication of this notice in Federal Register.

Section II of this notice explains the criteria for deleting sites from the NPL. Section III discusses the procedures EPA is using for this action. Section IV discusses the Firestone Tire and Rubber Company Superfund site and explains how the Site meets the deletion criteria.

II. NPL Deletion Criteria

Section 300.425(e)(1) of the NCP provides that sites may be deleted from, or recategorized on, the NPL where no further response is appropriate. In making a determination to delete a site from the NPL, EPA shall consider, in consultation with the state, whether any of the following criteria have been met:

(i) Responsible parties or other persons have implemented all appropriate response actions required; or

(ii) All appropriate Fund-financed responses under CERCLA have been implemented, and no further response action by responsible parties is appropriate; or

(iii) The Remedial Investigation has shown that the site poses no significant threat to public health or the environment and, therefore, remedial measures are not appropriate.

Even if a site is deleted from the NPL, where hazardous substances, pollutants, or contaminants remain at the site above levels that allow for unlimited use and restricted exposure, EPA's policy is that a subsequent review of the site will be conducted at least every five years after the initiation of the remedial action at the site to ensure that the site remains protective of public health and the environment. If new information becomes available which indicates a need for further action, EPA may initiate additional remedial actions. Whenever there is a significant release from a deleted site from the NPL, the site may be restored to the NPL without application of the Hazard Ranking System.

III. Deletion Procedures

The following procedures were used for the intended deletion of this Site: (1) All appropriate responses under CERCLA have been implemented and no further actions by EPA or the responsible party are appropriate; (2) the State of California has concurred with the proposed deletion decision; (3) a notice has been published in the local newspapers and has been distributed to appropriate Federal, State, and local officials and other interested parties announcing the commencement of a 30-day public comment period on EPA's Notice of Intent to Delete; and (4) all relevant documents have been made available in the local site information repositories.

Deletion of the Site from the NPL does not itself create, alter, or revoke any individual's rights or obligations. The NPL is designed primarily for informational purposes and to assist Agency management. Section 300.425(e)(3) of the NCP states that the deletion of a site from the NPL does not preclude eligibility for future response actions.

For deletion of this Site, EPA's Regional Office will accept and evaluate public comments on EPA's Notice of Intent to Delete before making a final decision to delete. If necessary, the Agency will prepare a Responsiveness Summary to address any significant public comments received.

A deletion occurs when the Regional Administrator places a final notice in the Federal Register. Generally, the NPL will reflect deletions in the final update following the Notice. Public notices and copies of the Responsiveness Summary will be made available to local residents by the Regional Office.

IV. Basis of Intended Site Deletion

The following site summary provides the Agency's rationale for the proposal to delete this Site from the NPL.

Site Background and History

The Firestone Tire and Rubber Company, now Bridgestone/Firestone, Inc., owned and operated a tire manufacturing facility at 340 El Camino Real South between 1963 and 1980. The Site is surrounded by agricultural lands and is approximately six miles southeast of downtown Salinas, California. During the facility's operation, Firestone released chlorinated solvents and other chemicals, particularly volatile organic compounds (VOCs), to the soil and groundwater at the Site.

In March 1983, Firestone began investigations at the facility to comply with Resource Conservation and Recovery Act (RCRA) closure requirements. Based on these investigations, the California Department of Health Services (DHS) required Firestone to conduct extensive soil and groundwater characterizations and subsequent interim remedial measures to address soil and groundwater contamination. Firestone removed approximately 65,000 cubic yards of contaminated soil and 9,000 gallons of hazardous liquids for off-site disposal in a Class I landfill. In October 1985, DHS issued a Remedial Action Order (RAO) to Firestone to address the groundwater contamination.

The groundwater aquifer system in the area is comprised of three interconnected aquifers that are designated shallow, intermediate, and deep aquifers. Directly downgradient of the Site, groundwater in the intermediate and deep aquifers is used primarily for agricultural supply along with potential private domestic supply. Further downgradient, the City of Salinas relies on groundwater in the deep aquifer for municipal water supply.

Pursuant to the RAO, Firestone constructed a groundwater extraction and treatment system to control migration of the groundwater contamination from the Site. The system included 15 onsite shallow aquifer extraction wells and an air stripper/carbon adsorption treatment plant. The system was expanded in 1987 by installing five offsite shallow aquifer extraction wells and modifying the treatment plant to accommodate the additional flow.

Response Actions

EPA listed the Site on the NPL on July 22, 1987. DHS (now DTSC) served as lead agency and provided oversight of Superfund activities at the Site. The final Remedial Investigation (RI), completed in December 1988, consisted of a comprehensive study of residual groundwater contamination in aquifers beneath and adjacent to the Site and a groundwater risk assessment. The RI found that the shallow aquifer groundwater extraction and treatment system was successfully removing the contamination in the shallow aquifer; however, the RI also found that some contamination, exceeding health-based levels, had migrated to the intermediate aquifer and to a small area of the deeper aquifer.

Firestone completed the final Feasibility Study/Remedial Action Plan (FS/RAP) in August 1989. On September 6, 1989, DHS approved the RAP selecting the final Site remedy. On September 13, 1989, EPA issued a Record of Decision (ROD) Declaration that formally concurred with the remedy selected by DHS. The final remedy provided for remediation of groundwater onsite and offsite extending to a distance of over two miles from the Site and included the following major components:

• Continued pumping of groundwater from the shallow aquifer;

• Installing five new wells and pumping groundwater from the intermediate aquifer;

• Treatment of extracted groundwater by air stripping and carbon adsorption;

• Discharge of treated water to the Salinas River;

• Regular groundwater monitoring to ensure that the size of the contaminant plume is declining and to allow for adjustments to the extraction and treatment system;

• Crop testing to ensure no uptake of contaminants by plants; and

• A monitoring and contingency plan for currently uncontaminated water in the deep aquifer which could become contaminated.

In October 1989, Firestone installed the five intermediate aquifer extraction wells and connected the new wells to the existing groundwater treatment plant. After DHS provided EPA with final certification of the implementation of the remedy, EPA issued the Interim Closeout Report in December 1991.

After achieving cleanup levels in all extraction wells, Firestone stopped pumping and conducted an aquifer stability test in November 1992. Based on the results of the aquifer stability test, DTSC allowed the groundwater extraction and treatment system to remain shut down with continued groundwater monitoring until July 1995. Post-remediation monitoring of deep and intermediate aquifer wells showed no exceedances of the groundwater cleanup levels; however, monitoring of the shallow aquifer wells showed increases in contaminant concentrations to above cleanup levels in two wells located near the former Firestone facility. The two shallow aquifer wells were screened in the upper zone of the shallow aquifer. The upper zone of the shallow aquifer is unsaturated for extended periods of time because it is above the normal groundwater table.

Since the residual contamination above the normal groundwater table was mainly a water quality issue, DTSC deferred the decision of case closure to the California Regional Water Quality Control Board (RWQCB). In 1998, Firestone conducted confirmation sampling that indicated that the residual contamination in the upper zone of the shallow aquifer had not impacted the intermediate and deep aquifers and that the contaminant concentrations in the two monitoring wells were decreasing. Based on these sampling results, RWQCB concluded that the residual contamination in the upper zone of the shallow aquifer would attenuate to below cleanup levels and would not impact the downgradient groundwater and deeper aquifers. With RWQCB's approval, Firestone dismantled the groundwater extraction and treatment system and properly abandoned all monitoring and extraction wells. On July 26, 2000, RWQCB closed the case and recommended that DTSC implement final case closure.

The groundwater cleanup levels in the RAP/ROD were set at Maximum Contaminant Levels (MCLs) based on the designated beneficial use of the aquifers in the area for drinking water. In June 2002, Firestone submitted a hydrogeologic evaluation of the upper zone of the shallow aquifer where the two monitoring wells were screened. The evaluation concluded that the upper zone of the shallow aquifer is not suitable as a potential drinking water source because the zone is suspended over a silty clay aquitard and is often unsaturated for extended periods. In a March 5, 2003, letter, RWQCB concurred with Firestone's evaluation and concluded that the upper zone of the shallow aquifer appears to have no beneficial use based on the lack of groundwater. Therefore, MCLs do not apply to the upper zone of the shallow aquifer since this zone is not suitable as a drinking water source. Based on RWQCB's determination and the achievement of the cleanup levels in all other areas and zones, EPA concluded and DTSC concurred that the Site can be deleted from the NPL list.

Cleanup Standards

The cleanup of the Site complies with the “clean closure” requirements, consistent with the Resource Conservation and Recovery Act of 1976, as amended, 40 CFR section 264.111. All contaminated soils were removed to unrestricted land use standards in 1983. The groundwater extraction and treatment system was operated from 1986 until 1992 when monitoring results indicated that the cleanup levels were achieved. Post-remediation monitoring confirms that there are no hazardous substances remaining at the Site above health-based levels.

Five-Year Review

EPA has conducted two five-year reviews for the Site as a matter of policy. EPA completed the first five-year review for the Site on November 16, 1994. EPA completed the second five-year review for the Site on September 28, 2001. In the second five-year review, EPA concluded that the residual contamination in the upper zone of the shallow aquifer did not constitute a significant risk to human health or the environment but that the Site had not met the cleanup standards of the RAP/ROD because the RWQCB considered the shallow groundwater as an unlikely but potential drinking water source. Later the RWQCB determined that the upper zone of the shallow aquifer was not a potential drinking water source. Based on the RWQCB's determination that the affected shallow zone has no beneficial use and the achievement of the cleanup levels in all other areas and zones, further five-year reviews are no longer required for the Site.

Community Involvement

Public participation activities have been satisfied as required in CERCLA section 113(k), 42 U.S.C. 9613(k), and CERCLA section 117, 42 U.S.C. 9617. The deletion docket contains the documents on which EPA relied for the NPL deletion recommendation and is available to the public in the information repositories.

Applicable Deletion Criteria/State Concurrence

EPA has determined that all appropriate responses under CERCLA have been completed and that no further response actions under CERCLA are necessary. In a letter dated July 3, 2003, the State of California through DTSC concurred with EPA that all appropriate responses under CERCLA have been completed. Therefore, EPA is proposing deletion of this Site from the NPL.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: January 26, 2005.
Laura Yoshii,
Acting Regional Administrator, Region IX.

[FR Doc. 05-2179 Filed 2-11-05; 8:45 am]

BILLING CODE 6560-50-P